DEPARTMENT OF THE INTERIOR

Bureau of Land Management

[WO-LL230 0000-L11100000-PH.0000]

Notice of Availability of a Memorandum of Understanding Between the Bureau of Land Management and the U. S. Fish and Wildlife Service To Promote Conservation of Migratory Birds

AGENCY: Bureau of Land Management, Interior.

ACTION: Notice of Availability.

SUMMARY: This notice announces the availability of the final signed Memorandum of Understanding (MOU) between the Bureau of Land Management (BLM) and the U.S. Fish and Wildlife Service (FWS) to Promote Conservation of Migratory Birds.

FOR FURTHER INFORMATION CONTACT: Geoff Walsh, Wildlife Biologist, 202-912-7271, geoffrey_walsh@blm.gov.

SUPPLEMENTARY INFORMATION: This notice announces the availability of the MOU between the BLM and the FWS to Promote Conservation of Migratory Birds signed April 12, 2010. The MOU provides for strengthening migratory bird conservation by identifying and implementing strategies that promote conservation and reduce or eliminate adverse impacts on migratory birds through enhanced collaboration between the BLM and the FWS, in coordination with State, tribal, and local governments. This MOU identifies specific activities where cooperation between the BLM and the FWS will contribute to the conservation of migratory birds and their habitat. These activities are intended to complement and support existing partnerships and efforts, and to facilitate new collaborative conservation partnerships and comprehensive planning efforts for migratory birds. Pursuant to Executive Order 13186, [FR 66 3853] published on January 17, 2001, entitled “Responsibilities of Federal agencies to Protect Migratory Birds,” this MOU outlines a collaborative approach to promote the conservation of migratory bird populations. The Executive Order also directs agencies to take certain actions to further implement the migratory bird conventions, the Migratory Bird Treaty Act (MBTA), the Bald and Golden Eagle Protection Act (BGEPA) and other pertinent statutes. The implementation of the MOU will be coordinated through ongoing communication between the BLM Division of Fish, Wildlife, and Plant Conservation and the FWS Division of Migratory Bird Management. Major implementation elements include, but are not limited to, BLM development of a migratory bird strategic conservation plan and the FWS completion of raptor conservation measures.

National Environmental Policy Act (NEPA)

NEPA will be complied with as the MOU is implemented.

Robert V. Abbey,
Director, Bureau of Land Management.

[FR Doc. 2011-2528 Filed 2-3-11; 8:45 am]

BILLING CODE 4310-84-P